NATIONAL LABOR RELATIONS BOARD

Sunshine Act Meetings

Time and Dates: All meetings are held at 2:30 p.m.

Wednesday, September 1; Thursday, September 2; Tuesday, September 7; Wednesday, September 8; Thursday, September 9; Tuesday, September 14; Wednesday, September 15; Thursday, September 16; Tuesday, September 21; Wednesday, September 22; Thursday, September 23; Tuesday, September 28; Wednesday, September 29; Thursday, September 30, 2010.

PLACE: Board Agenda Room, No. 11820,1099 14th St., NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

Dated: September 3, 2010.
Lester A. Heltzer,
Executive Secretary.

[FR Doc. 2010-22605 Filed 9-7-10; 11:15 am]

BILLING CODE 7545-01-P